CORPORATION FOR NATIONAL AND COMMUNITY SERVICE

Information Collection; Submission for OMB Review; Comment Request

AGENCY: Corporation for National and Community Service.

ACTION: Notice.

SUMMARY: The Corporation for National and Community Service (hereinafter the “Corporation”) has submitted a public information collection request (ICR) to the Office of Management and Budget (OMB) for review and approval in accordance with the Paperwork Reduction Act of 1995, Pub. L. 104-13, (44 U.S.C. Chapter 35). Copies of this ICR, with applicable supporting documentation, may be obtained by calling the Corporation for National and Community Service, Mr. Nathan Dietz, at (202) 606-5000, extension 287, (Ndietz@cns.gov); (TTY/TDD) at (202) 606-5256 between the hours of 9 a.m. and 4 p.m. eastern standard time, Monday through Friday.

Comments may be submitted, identified by the title of the information collection activity, by any of the following two methods within 30 days from the date of publication in this Federal Register:

(1) By fax to: (202) 395-6974, Attention: Ms. Katherine Astrich, OMB Desk Officer for the Corporation for National and Community Service; and

(2) Electronically by e-mail to: Katherine_T._Astrich@omb.eop.gov.

The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

The Corporation seeks to reinstate its previously used Accomplishments Survey to collect information about local project volunteer activities, inputs, and accomplishments. This study will be conducted under contract with Westat, Inc. (#CNCSHQC03003, Task Order #WES03T001). This information will be used by the Corporation to prepare its Annual Performance Reports, and to respond to ad hoc requests from Congress and other interested parties.

The revised Accomplishment Surveys for National Senior Service Corps Programs will be distributed to samples of volunteer stations for each program. Local grantees, or projects, place volunteers in local organizational settings where they are supervised by organizational staff. These volunteer station supervisors will complete the survey.

Comments

A 60-day public comment Notice was published in the Federal Register on November 4, 2003. This comment period ended on January 5, 2004 and resulted in two comments being received. Those comments are addressed below:

Two respondents submitted public comments in response to the announcement. The public comments and Corporation's responses are as follows:

Comment: Project directors (Senior Corps grantees) have been asked on previous data collections to follow up with nonrespondents. This is extra work.

Response: Project directors will not be asked to follow up with volunteer stations that are the survey respondents. The Corporation, working with its contractor, will be responsible for following up with volunteer stations that do not submit surveys.

Comment: Why is this data collection necessary? Any evaluation asked of the Directors should center on grantees' opinions of regulations, how the new requirements affect project performance, and other questions about the direction Senior Corps is taking.

Response: The products of the surveys will be updated National Accomplishment Reports for each of the three Senior Corps programs. The information contained in these reports cannot be compiled with any existing information collection systems.

With respect to regulations changes, Senior Corps project directors and other members of the public use the Federal Register public comment periods to provide feedback.

It is hoped that information from these surveys of volunteer stations will provide project directors with insight about the way they manage and place volunteers, and how Senior Corps grantees can strengthen relationships with volunteer stations.

Comment: This study will only collect data on outputs, which is less meaningful than data on outcomes. Outcomes measure the difference programs make in their community.

Response: Reports based on outputs are important enough to warrant reinstatement. Concrete accomplishment information, such as how many houses RSVP volunteers helped to construct; how many juvenile offenders Foster Grandparents helped to support in work release placements; or how many miles Senior Companions drove their frail senior clients serve as a solid foundation upon which to build longer term outcomes, which will be the second part of this survey process. Combining accomplishment information obtained through this survey process with other data collected in progress reports will allow the Corporation and its Senior Corps grantees to describe the programs from many perspectives at the national level.

Comment: The proposal is for the accomplishment surveys to be sent directly to stations. This is not appropriate given the lack of business relationship between the Corporation and Senior Corps stations, will result in a limited number of surveys being returned, and will result in incomplete data.

Response: The survey plan calls for Senior Corps project directors to receive information about volunteer stations in their networks selected to participate. As a next step, survey instruments will be sent to the Senior Corps grantees to deliver to the selected volunteer stations. In this way, the process is identical to what is described in the comment. The survey plan calls for Senior Corps project directors to receive information about volunteer stations in their networks selected to participate. As a next step, survey instruments will be sent to the Senior Corps grantees to deliver to the selected volunteer stations.

Comment: The last accomplishment survey was over 20 pages. Stations are already overwhelmed by paperwork from many, many sources. This will also decrease the number of surveys returned.

Response: The revised survey instrument is considerably shorter for RSVP than it was for the last version of the Accomplishment Surveys. In addition, the survey design allows for volunteer stations affiliated with RSVP and Foster Grandparent projects to only receive and complete the section(s) of the survey applicable to the Senior Corps volunteer serving there.

Type of Review: Reinstatement, with change, of a previously approved collection for which approval has expired.

Agency: Corporation for National and Community Service.

Title: Accomplishments Surveys of National Senior Service Corps Programs.

OMB Number: Previously assigned 3045-0049.

Agency Number: None.

Affected Public: Foster Grandparent, Senior Companion, and Retired and Senior Volunteer programs, and staff of agencies and organizations serving as volunteer stations for volunteers from those programs.

Type of Respondents: Volunteer coordinators in volunteer stations.

Total Respondents: 2,500.

Frequency: March and April, 2004.

Estimated Total Burden Hours: 1,875 hours total for all respondents/sites. There are no Capital Costs, Operating Costs and/or Maintenance Costs to report.

Dated: February 22, 2004.
David A. Reingold,
Director, Office of Research and Policy Development.

[FR Doc. 04-4377 Filed 2-26-04; 8:45 am]

BILLING CODE 6050-$$-P